DEPARTMENT OF TRANSPORTATION

Federal Transit Administration

[FTA Docket No. FTA 2021-0018]

Agency Information Collection Activity Under OMB Review

AGENCY: Federal Transit Administration, DOT.

ACTION: Notice of request for comments.

SUMMARY: In accordance with the Paperwork Reduction Act of 1995, this notice announces the intention of the Federal Transit Administration (FTA) to request the Office of Management and Budget (OMB) to approve the extension of a currently approved information collection: Job Access and Reverse Commute Program.

DATES: Comments must be submitted before February 7, 2022.

ADDRESSES: To ensure that your comments are not entered more than once into the docket, submit comments identified by the docket number by only one of the following methods:

1. Website: www.regulations.gov. Follow the instructions for submitting comments on the U.S. Government electronic docket site. (Note: The U.S. Department of Transportation's (DOT's) electronic docket is no longer accepting electronic comments.) All electronic submissions must be made to the U.S. Government electronic docket site at www.regulations.gov. Commenters should follow the directions below for mailed and hand-delivered comments.

2. Fax: 202-366-7951.

3. Mail: U.S. Department of Transportation, 1200 New Jersey Avenue SE, Docket Operations, M-30, West Building, Ground Floor, Room W12-140, Washington, DC 20590-0001.

4. Hand Delivery: U.S. Department of Transportation, 1200 New Jersey Avenue SE, Docket Operations, M-30, West Building, Ground Floor, Room W12-140, Washington, DC 20590-0001 between 9:00 a.m. and 5:00 p.m., Monday through Friday, except federal holidays.

Instructions: You must include the agency name and docket number for this notice at the beginning of your comments. Submit two copies of your comments if you submit them by mail. For confirmation that FTA has received your comments, include a self-addressed stamped postcard. Note that all comments received, including any personal information, will be posted and will be available to internet users, without change, to www.regulations.gov. You may review DOT's complete Privacy Act Statement in the Federal Register published April 11, 2000, (65 FR 19477), or you may visit www.regulations.gov. Docket: For access to the docket to read background documents and comments received, go to www.regulations.gov at any time. Background documents and comments received may also be viewed at the U.S. Department of Transportation, 1200 New Jersey Avenue SE, Docket Operations, M-30, West Building, Ground Floor, Room W12-140, Washington, DC 20590-0001 between 9:00 a.m. and 5:00 p.m., Monday through Friday, except federal holidays.

FOR FURTHER INFORMATION CONTACT: Elan Flippin (202) 366-3800 or email: Elan.Fliipin@dot.gov.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Job Access and Reverse Commute Program (OMB Number: 2132-0563).

Background: The Job Access and Reverse Commute (JARC) program, provided grants for filling gaps in employment transportation. The primary beneficiaries of this program were low-income families and families coming off welfare assistance who otherwise would have a difficult time getting to jobs and related services, such as child care and training. The program was begun in 1999 and was continued under Section 5316 of the federal transportation legislation, Safe, Accountable, Flexible, Efficient Transportation Equity Act: A Legacy for Users (SAFETEA-LU), passed by Congress in 2005. The JARC program authorized two kinds of grants: Job Access grants (aimed at developing new transportation services for low-income workers and/or filling in gaps in existing services) and Reverse Commute projects (intended to provide transportation to suburban jobs from urban, rural and other suburban locations—but not necessarily just for low-income people). The JARC program was repealed under the Moving Ahead for Progress in the 21st Century Act (MAP-21). Although the program has expired, JARC activities are eligible for funding under FTA's Urbanized Area Formula Grants (Section 5307) and the Formula Grants for Rural Areas (Section 5311) programs. However, funds previously authorized for the program repealed by MAP-21 remain available for their originally authorized purposes until the period of availability expires, the funds are fully expended, the funds are rescinded by Congress, or the funds are otherwise reallocated.

Respondents: State and local government, business or other for-profit institutions, and non-profit institutions.

Estimated Total Annual Respondents: 49.

Estimated Total Burden Hours per Respondent: 2 hours.

Estimated Annual Burden on Respondents: 98 hours.

Frequency: Annually.

Nadine Pembleton,
Director, Office of Management Planning.

[FR Doc. 2021-26608 Filed 12-7-21; 8:45 am]

BILLING CODE 4910-57-P